DEPARTMENT OF COMMERCE

National Oceanic and Atmospheric Administration

Proposed Information Collection; Comment Request; An Observer Program for At-Sea Processing Vessels in the Pacific Coast Groundfish Fishery

AGENCY: National Oceanic and Atmospheric Administration (NOAA), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 23, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Jonathan Cusick, (360) 332-2793 or Jonathan.Cusick@noaa.gov.

SUPPLEMENTARY INFORMATION:

I. Abstract

The National Marine Fisheries Service's At-Sea Hake Observer Program defines observer duties, trains and debriefs observers, and manages data and release. The observers, deployed aboard at-sea processing vessels in the U.S. West Coast hake (a.k.a. whiting) fishery, are hired by observer providers who contract with the at-sea processors to provide the required observer coverage (50 CFR part 660). This data collection relates to the response time for observer providers and observers to register for training, debriefing or to respond to suspension or decertification.

II. Method of Collection

Methods of submittal include e-mail, U.S. post, telephone calls, and facsimile transmission of paper forms.

III. Data

OMB Number: 0648-0500.

Form Number: None.

Type of Review: Regular submission.

Affected Public: Individuals or households; business or other for-profit organizations.

Estimated Number of Respondents: 22.

Estimated Time per Response: Transcripts, 15 minutes; decertification response, 4 hours; training registration, 7 minutes; notification of observer physical examination, 2 minutes; observer assignment information, 7 minutes; weekly deployment report, 7 minutes; debriefing registration, 7 minutes; and reports on observer harassment/safety/performance, 2 hours.

Estimated Total Annual Burden Hours: 51.

Estimated Total Annual Cost to Public: $1,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 16, 2007.
Gwellnar Banks,
Management Analyst, Office of the Chief Information Officer.

[FR Doc. E7-9771 Filed 5-21-07; 8:45 am]

BILLING CODE 3510-22-P